DEPARTMENT OF EDUCATION

[Docket No.: ED-2022-SCC-0107]

Agency Information Collection Activities; Submission to the Office of Management and Budget for Review and Approval; Comment Request; School Pulse Panel 2022 Quarter 4 Revision

AGENCY: Institute of Educational Sciences (IES), Department of Education (ED).

ACTION: Notice.

SUMMARY: In accordance with the Paperwork Reduction Act of 1995, ED is proposing a revision of a currently approved collection.

DATES: Interested persons are invited to submit comments on or before September 26, 2022.

ADDRESSES: Written comments and recommendations for proposed information collection requests should be sent within 30 days of publication of this notice to www.reginfo.gov/public/do/PRAMain. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, 202-245-6347.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed ICR that is described below. The Department is especially interested in public comments addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public record.

Title of Collection: School Pulse Panel 2022 Quarter 4 Revision.

OMB Control Number: 1850-0969.

Type of Review: A revision of a currently approved collection.

Respondents/Affected Public: Individuals and Households.

Total Estimated Number of Annual Responses: 17,280.

Total Estimated Number of Annual Burden Hours: 4,752.

Abstract: The School Pulse Panel (SPP) is a monthly data collection originally designed to collect voluntary responses from a nationally representative sample of public schools to better understand how schools, students, and educators are responding to the ongoing stressors of the coronavirus pandemic, along with other priority items for the White House, Centers for Disease Control and Prevention, and Department of Education program offices. This collection allows NCES to comply with the January 21, 2021 E.O. 14000 Executive Order on Supporting the Reopening and Continuing Operation of Schools and Early Childhood Education Providers. The SPP study is extremely important particularly now that COVID-19 has not waned, and the pulse model is one that the agency will need after the pandemic subsides for other quick-turnaround data needs. It is one of the nation's few sources of reliable data on a wealth of information focused on school reopening efforts, virus spread mitigation strategies, services offered for students and staff, and technology use, as reported by school district staff and principals in U.S. public schools. Initially cleared as an emergency (OMB #1850-0963), the SPP monthly data collection (OMB #1850-0969) was formally cleared in April 2022, with change requests (OMB #1850-0969 v.2-3) clearing the May and June 2022 Questionnaires in April and May. A revision (complete with 30D public comment period; v.4) containing projected questionnaire items for August and September 2022 as well as further change requests (v. 5-7) were cleared in July and August 2022.

The purpose of this submission is to propose and seek 30-day public comment on new items (within the scope of research domains both previously established and minimally revised in this request; see Part A changes detailed below) to be collected on the October, November, and December instruments (Appendix B.6). These items are considered very close to final and will go through minimal testing with school personnel to examine any comprehension concerns with item wording. Feedback from this testing, as well as additional input from SPP stakeholders, will result in modifications and additions that will be reflected in future change requests. Some previously approved items that are considered core content will be collected in during these months. Specifically, items on learning modes, quarantine, and possibly items on after-school programs will be repeated to maintain trend over time. In addition to the changes in Appendix B (new items) and Part A (overall description of the study), updated screenshots were also added to Appendix A (communication materials) in order to keep the materials current, and additional details were added to the descriptions of our cognitive testing process in Part B. The costs to the government have not changed as a result of this revision nor has the projected respondent burden.

Dated: August 23, 2022.
Stephanie Valentine,
PRA Coordinator, Strategic Collections and Clearance Governance and Strategy Division, Office of Chief Data Officer, Office of Planning, Evaluation and Policy Development.

[FR Doc. 2022-18446 Filed 8-25-22; 8:45 am]

BILLING CODE 4000-01-P